LEGAL SERVICES CORPORATION

Notice of Funds and Request for Applications for 2017 Hurricanes and Wildfires Disaster-Response Legal Services Grants

AGENCY: Legal Services Corporation.

ACTION: Notice.

SUMMARY: The Legal Services Corporation (LSC) issues this Notice describing the application and award process for up to $14,250,000 of grants to support delivery of legal services related to the consequences of all cyclone and hurricane stages of Hurricanes Harvey, Irma, and Maria and of the calendar year 2017 California wildfires.

DATES: Applications must be submitted by 11:59 p.m. E.S.T. on Monday, June 4, 2018.

ADDRESSES: Application must be submitted electronically at lscgrants.lsc.gov.

FOR FURTHER INFORMATION CONTACT: Application instructions are in the Notice of Funds and Request for Applications available at www.lsc.gov/disastergrants. For more information or technical issues with LSC Grants, please send an email to emergencygrants@lsc.gov. To reach a member of the Disaster team, please send an email to polyakovaa@lsc.gov.

SUPPLEMENTARY INFORMATION: The Legal Services Corporation (LSC) is accepting applications from current LSC grantees for grants to support delivery of legal services related to the consequences of all cyclone and hurricane stages of Hurricanes Harvey, Irma, and Maria and of the calendar year 2017 California wildfires (2017 Hurricanes and California Wildfires). These grants will fund necessary expenses for grantees to provide (1) mobile resources, (2) technology, and (3) disaster coordinators for pro bono volunteers, all of which must be necessary to provide storm-related services to LSC-eligible clients in the areas significantly affected by the 2017 Hurricanes and California Wildfires. Application materials and descriptions of eligible activities, grant requirements and the review and selection process are posted in the Notice of Funds and Request for Applications available at www.lsc.gov/disastergrants. LSC will post all additional information regarding this grant process at that website.

LSC will have approximately $14,250,000 available for 2017 Hurricanes and California Wildfires grants. Grant decisions for these funds will be made in the summer of 2018. There is no maximum amount for 2017 Hurricanes and California Wildfires grants that are within the total funding available. LSC recommends submitting applications with budget of at least $500,000.

LSC strongly encourages existing LSC grantees to apply for funding through these grants for any activities that meet the grant criteria. For disaster-related needs that are beyond the scope of these grants, LSC grantees may also apply for grants from LSC's Disaster Relief Emergency Grant Program, which is not limited to specific disasters or specific types of activities. www.lsc.gov/disastergrants. LSC has only $2,000,000 available for those Disaster Relief grants. Entities applying to both the 2017 Hurricanes and California Wildfires and LSC's Disaster Relief Emergency Grant Programs should submit those applications at the same time and explain how the activities described in each application relate to each other in addition to the information requested in the full Request for Applications at Appendices III—Rating Criteria and IV—Budget Instructions.

Dated: May 4, 2018.
Mark F. Freedman,
Senior Associate General Counsel.

[FR Doc. 2018-09881 Filed 5-8-18; 8:45 am]

BILLING CODE 7050-01-P